ENVIRONMENTAL PROTECTION AGENCY

[EPA-HQ-OAR-2003-0039, FRL-8023-4]

Agency Information Collection Activities: Proposed Collection; Comment Request; Reporting and Recordkeeping Requirements of the HCFC Allowance System, EPA ICR Number 2014.03, OMB Control Number 2060-0498, Correction

ACTION: Notice; correction.

SUMMARY: Through this action, EPA is correcting the Notice published in the Federal Register on December 20, 2005 (70 FR 75458). Specifically, EPA is clarifying that the OMB Control Number for this Information Collection Activity is 2060-0498 and not 2060-0948. All other components of the December 20, 2005 Notice remain the same.

FOR FURTHER INFORMATION CONTACT: Cindy Axinn Newberg, Stratospheric Protection Division, Office of Atmospheric Programs, Office of Air and Radiation, Mail Code 6205J, Environmental Protection Agency, 1200 Pennsylvania Ave., NW., Washington, DC 20460; telephone number: 202-343-9729 and e-mail address: newberg.cindy@epa.gov.

SUPPLEMENTARY INFORMATION: Although the Notice was published in the Federal Register on December 20, 2005 (70 FR 75458) with the correct EPA ICR Number (2014.03), the OMB Control Number in the title and in the Notice itself was incorrect. Therefore, EPA is clarifying that the OMB Control Number is 2060-0498 and not 2060-0948.

Need for Correction

As published, the Notice contains errors which may prove to be misleading and need to be corrected.

Agency Information Collection Activities: Proposed Collection; Comment Request; Reporting and Recordkeeping Requirements of the HCFC Allowance System, EPA ICR Number 2014.03, OMB Control Number 2060-0498, Correction.

Dated: January 12, 2006.
Drusilla Hufford,
Division Director, Stratospheric Protection Division.

[FR Doc. E6-635 Filed 1-19-06; 8:45 am]

BILLING CODE 6560-50-P